ENVIRONMENTAL PROTECTION AGENCY

40 CFR Part 60

[EPA-HQ-OAR-2013-0696; FRL-9929-25-OAR]

RIN 2060-AR81

Performance Specification 18—Performance Specifications and Test Procedures for Hydrogen Chloride Continuous Emission Monitoring Systems at Stationary Sources

Correction

In rule document 2015-16385, appearing on pages 38628 through 38652 in the issue of Tuesday, July 7, 2015, make the following correction:

On page 38646, in the first column, in the last paragraph, in the sixth line, “+5” should read “±5”.

[FR Doc. C1-2015-16385 Filed 7-16-15; 8:45 am]

BILLING CODE 1505-01-P